ENVIRONMENTAL PROTECTION AGENCY

40 CFR Part 52

[PA147/177-4126a; FRL-7032-5]

Approval and Promulgation of Air Quality Implementation Plans; Pennsylvania; NOX RACT Determinations for Four Individual Sources in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for four major sources of nitrogen oxides (NOX). These sources are located in the Pittsburgh-Beaver Valley ozone nonattainment area (the Pittsburgh area). EPA is approving these revisions to establish RACT requirements in the SIP in accordance with the Clean Air Act (CAA).

DATES: This rule is effective on October 1, 2001 without further notice, unless EPA receives adverse written comment by September 14, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105.

FOR FURTHER INFORMATION CONTACT: Michael Ioff at (215) 814-2166, the EPA Region III address above or by e-mail at Ioff.mike@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major volatile organic compounds (VOC) and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992. The Pennsylvania SIP has approved RACT regulations and requirements for all sources and source categories covered by the CTG's.

On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrates that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

On April 9, 1999 and July 5, 2001, the PADEP submitted revisions to the Pennsylvania SIP which establish and impose RACT for several sources of NOX and VOCs. The RACT determinations for four of those sources, named below, are the subject of this rulemaking. These four sources are all located in the Pittsburgh area. The RACT determinations submitted for the other sources are or have been the subject of separate rulemakings.

II. Summary of the SIP Revisions

The table below identifies the sources and the individual RACT operating permits (OPs) which are the subject of this rulemaking. A summary of the RACT determinations for each source follows the table.

Pennsylvania—VOC and NOX RACT Determinations for Individual Sources
Source | County | Plan approval (PA #) operating permit (OP #) | Source type | “Major source pollutant”
Lukens Steel Corporation Houston Plant | Washington | OP-63-000-080 | Stainless steel producer | NOX
Allegheny Ludlum Steel Corporation West Leechburg Plant | Westmoreland | OP-65-000-183 | Stainless and silicon steel producer | NOX
Allegheny Ludlum Corporation Jessop Steel Company Washington Plant | Washington | OP-63-000-027 | Stainless and tool steel plate producer | NOX
Koppel Steel Corporation Koppel Plant | Beaver | OP-04-000-059 | Carbon and alloy steel producer | NOX

A. Lukens Steel Corporation, Houston Plant

The Lukens Steel Corporation's Houston Plant is a producer of rolled stainless steel sheet located in Houston Borough, Washington County, Pennsylvania. The facility is not a major VOC emitting source. The facility is a major source of NOX, and is a subject to RACT. The facility consists of two Electric Arc Furnaces (EAFs), an Argon Oxygen Decarburization (AOD) vessel, a continuous caster, a hot strip finishing mill, and a roughing and finishing mills. The facility also includes a number of preheat/heating/annealing metallurgical furnaces and heaters. Pennsylvania established NOX RACT requirements for the facility in OP 63-000-080.

(1) Description of the NOX Emitting Installations and Processes

(a) EAFs at the Melt Shop: Both EAFs are used at the plant to melt and refine the charge of metallic scrap, fluxes, and various alloying elements. The sufficient resistive heating is generated inside the refractory-lined furnace vessel by electrical current flowing between the three graphite electrodes and through the metallic charge. In spite of very high temperatures which arise inside the furnace during the melting phase, only modest NOX formation occurs. This is due to the fact that in the EAF process the generation of NOX is largely transferred from a steelmaking facility to an electric generating unit at a utility plant where those emissions are controlled.

(b) AOD Vessel at the Melt Shop: The AOD vessel is a refractory-lined furnace used in the ladle-metallurgical argon-oxygen decarburization process to refine stainless steel outside the EAF. During the oxygen-argon blowing, fluxes and alloy materials are added to the vessel. Immediately after the decarburization blow, molten steel is argon-stirred to achieve the desired chemical and temperature homogenization of the material.

(c) Preheat/Heating/Reheat/Annealing Furnaces: Preheat/heating/reheat furnaces are used to bring various semi-finished steel products to a uniform temperature in order to make them suitable for hot working. Annealing furnaces are used to refine the steel grain structure, to relief stresses induced by hot or cold working, and to alter the mechanical properties of steel in order to improve its malleability. Heat treatment of stainless steels is conducted at a slow rate and relatively low temperatures to minimize thermal stresses and to avoid distortion and cracking.

(2) Description of the RACT Determinations

Of the fourteen NOX emitting installations/processes, nine are heating/reheat/annealing natural gas-fired furnaces and ladle or tundish preheaters with a rated gross heat input of less than 20 MMBTU/hr each. Pennsylvania has determined that these sources are subject to SIP-approved presumptive RACT requirements set forth in 25 Pa. Code Section 129.93.(c)(1). Two of the other five remaining sources are natural gas-fired recoil heating furnaces with a rated gross heat input equal to 20 MMBTU/hr. Pennsylvania has determined that these sources are subject to SIP-approved presumptive RACT requirements set forth in 25 Pa. Code Section 129.93.(b)(2). The remaining three sources are comprised of the two EAFs and the AOD vessel. A case-by-case RACT analysis was performed for those three installations/processes. The following NOX emission control options were evaluated: Low Excess Air (LEA), Flue Gas Recirculation (FGR), Modification of Process Equipment, Selective Catalytic Reduction (SCR), Selective Non-Catalytic Reduction (SNCR), and Wet Scrubber Oxidation/Reduction Process. Pennsylvania's determinations of NOX RACT requirements for those three installations are based on a detailed case-by-case analysis of whether or not the evaluated control technologies were economically and technically feasible options in each particular application.

(a) EAFs: Pennsylvania has concluded that the equipment and technology currently in place are constitute RACT for the source. Operating permit 63-000-080 requires that these sources be operated in accordance with the manufacturer's specifications and good operating/management practices. The OP also limits NOX emissions from the two EAFs to 13 lb/hr and 51 tons per year (tpy) in any 12 month consecutive period.

(b) AOD Vessel: Pennsylvania has concluded that the equipment and technology currently in place are constitute RACT for the source. In OP63-000-080, Pennsylvania imposes a requirement to operate the source in accordance with the manufacturer's specifications and good operating/management practices. The OP also limits NOX emissions from the AOD vessel to 10 lb/hr and 44 tpy in any 12 month consecutive period.

(c) Recoil Furnaces at the Hot Strip Mill: In addition to requiring these furnaces to meet SIP-approved presumptive RACT emission limitations, OP-63-000-080 also limits NOX emissions from these sources to 5.6 lb/hr and 25 tpy in any 12 month consecutive period. In addition, OP 63-000-080 limits total facility wide NOX emissions to no more than 136 tpy in any 12 month consecutive period.

B. Allegheny Ludlum Corporation, West Leechburg Plant

The Allegheny Ludlum Steel Corporation's West Leechburg Plant is a producer of stainless and silicon steel strip located in Westmoreland County, Pennsylvania. The facility is not a major VOC emitting source. The facility is a major NOX emitting source, and is a subject to NOX RACT regulations. The facility is comprised of twenty-seven NOX emitting individual installations and processes. Pennsylvania established NOX RACT requirements for the facility in OP 65-000-183.

(1) Description of the NOX Emitting Installations and Processes

The West Leechburg Plant is primarily a finishing and rolling facility. The hot rolled and cold reduced strip steel is either annealed, annealed and pickled, blasted and pickled, or normalized depending on its metallurgy and end use. Most of the NOX emitting installations and processes at the facility are associated with the combustion of natural gas. The NOX emitting sources include heating, reheat and annealing furnaces of various gross heat input rates, coal and natural gas fired boilers and nitric/hydrofluoric acid pickling operations. The description of the major NOX emitting installations and processes provided for the Lukens Steel Corporation's facility, above, also describe those at Allegheny Ludlum Steel Corporation's West Leechburg Plant.

(2) Description of the RACT Determinations

Pennsylvania has determined that fifteen various metallurgical furnaces and boilers are subject to the SIP-approved presumptive RACT emission limitations in 25 Pa. Code Section 129.93(b)(2) and (c)(1). For the remaining twelve NOX emitting sources, a detailed case-by-case NOX RACT analysis was performed in order to evaluate what control technology is both economically and technically feasible in each particular application. The following NOX emission control options were evaluated: Low Excess Air (LEA), Low-NOX Burners (LNB), LNB combined with Flue Gas Recirculation (FGR), Selective Catalytic Reduction (SCR), Selective Non-Catalytic Reduction (SNCR), Absorption, Oxidation/Absorption, and Hydrogen Peroxide Injection. Pennsylvania OP-65-000-183 requires that these numerous small sources operate and be maintained in accordance with the manufacturer's specifications and good operating procedures. Furthermore, each of these individual emitting sources is subject to an hourly NOX emission rate (pounds/hr) and annual NOX emission rate (tpy) to be met in any consecutive 12 month period. Finally OP 65-000-183 imposes a total facility wide cap of 874 tons per year also to be met in any consecutive 12 month period.

C. Allegheny Ludlum Corporation, Jessop Steel Company, Washington Plant

The Allegheny Ludlum Corporation, Jessop Steel Company's Washington Plant is a specialty steel producer located in Washington County, Pennsylvania. Pennsylvania issued the facility OP63-000-027, and therein limits total facility wide emissions of VOC to 4.5 tpy in any 12 month consecutive period. Therefore, the facility is not a major source of VOC. The facility is a major source of NOX, and is a subject to NOX RACT regulations. The facility is comprised of thirty individual NOX emitting installations and processes. Pennsylvania established NOX RACT requirements for the facility in OP63-000-027.

(1) Description of the NOX Emitting Installations and Processes

The Washington facility processes semi-finished stainless and tool grade steel products for specific customer use. The stainless or tool grade steel strip is either annealed, annealed and pickled, or blasted and pickled depending on its metallurgy and end use. Most of the NOX emitting installations and processes at the facility are gas fired small heating/reheat/annealing furnaces with rated heat input of less than 20 MMBTU/hr. There are also a few sources, such as a batch pickling operation, which are not associated with combustion process but still generate some NOX emissions. The description of the major NOX emitting installations and processes provided for the Lukens Steel Corporation's facility, above, also describe those at the Allegheny Ludlum Corporation, Jessop Steel Company's Washington Plant. It should be noted that the facility's three Electric Arc Furnaces (EAFs), the Argon Oxygen Decarburization (AOD) vessel and two AOD preheaters were shutdown on July 1, 1994. Allegheny Ludlum has filed for Emission Reduction Credits (ERCs) in accordance with 25 PA Code Section 127.207(5)(I) for the emissions reductions, beyond those required as RACT, from these shutdown units.

(2) Description of the RACT Determinations

Pennsylvania has determined that twenty-four installations and processes are subject to the SIP-approved presumptive RACT emission limitations set forth in 25 Pa. Code Section 129.93(b)(2) and (c)(1). For the remaining six NOX emitting sources, a case-by-case NOX RACT analysis was performed in order to evaluate whether any additional control technology is both technically and economically feasible. The following NOX emission control options were evaluated: Low Excess Air (LEA), Low-NOX Burners (LNB), LNB Flue Gas Recirculation (FGR), Selective Catalytic Reduction (SCR), Selective Non-Catalytic Reduction (SNCR), Absorption, Oxidation/Absorption, and Hydrogen Peroxide Injection. Pennsylvania determined that operation of the existing equipment in accordance with the manufacturer's specifications and good engineering and pollution control practices constitutes RACT for the sources. Furthermore, each of these individual emitting sources is subject to an hourly NOX emission rate (pounds/hr) and annual NOX emission rate (tpy) to be met in any consecutive 12 month period. Finally OP63-000-027 imposes a total facility wide cap of 191.6 tpy to be met in any 12 month consecutive period.

D. Koppel Steel Corporation, Koppel Plant

The Koppel Steel Corporation's Koppel Plant is a producer of carbon and alloy grades steel located in Koppel Borough, Beaver County, Pennsylvania. The facility is comprised of twelve major NOX emitting individual installations and processes . Pennsylvania established NOX RACT requirements for the facility in OP-04-000-059. The facility is not a major source of VOCs. The facility is a major NOX emitting source, and is a subject to NOX RACT regulations.

(1) Description of the NOX Emitting Installations and Processes

The processes at this facility involve steel melting operations and the subsequent production of hot rolled bars in both carbon and alloy grades. The facility's Melt Shop consists of an Electric Arc Furnaces (EAF), a ladle refining station, a continuous caster and various pieces of ancillary equipment. Other NOX emitting installations and processes at the facility include various metallurgical furnaces, ladle and tundish dryers and heaters, torches, and boilers. The description of the major NOX emitting installations and processes provided for the Lukens Steel Corporation's facility, above, also describe those at the Koppel Steel Corporation, Koppel Plant.

(2) Description of the RACT Determinations

Of the twelve NOX emitting units/processes, nine are heating/reheat/annealing natural gas-fired furnaces and ladle/tundish dryers and heaters with a rated gross heat input of less than 20 MMBTU/hr each. Pennsylvania has determined that these sources are subject to the SIP-approved presumptive RACT requirements set forth in 25 Pa. Code Section 129.93(c)(1). The remaining three sources are comprised of the EAF, ladle refining station, and the Rotary Hearth Reheat furnace. A case-by-case RACT analysis was performed for those three installations and processes with the following NOX emission control options evaluated: Low Excess Air (LEA), Flue Gas Recirculation (FGR), and Selective Non-Catalytic Reduction (SNCR). Pennsylvania's determinations of NOX RACT requirements for those three installations were based on a detailed case-by-case analysis of whether or not the evaluated control technologies were technically and economically feasible options in each particular application.

(a) The EAF and ladle refining station: Pennsylvania determined that the equipment and technology currently in place are constitute RACT for these sources. In OP04-000-059, Pennsylvania requires these units to operate and be maintained in accordance with the manufacturer's specifications and good air pollution control practices.

(b) The Rotary Hearth Reheat furnace: Pennsylvania has determined that the use of LEA at approximately 10% (in addition to the requirement to provide an annual adjustment or tune up of the combustion process) constitutes RACT for this source and, accordingly, imposes those requirements in its RACT OP-04-000-059.

III. EPA's Evaluation of Pennsylvania's SIP Revisions

EPA is approving Pennsylvania's RACT SIP submittals because PADEP established and imposed these RACT requirements in accordance with the criteria set forth in its SIP-approved RACT regulations. The Commonwealth has also imposed record-keeping, monitoring, and testing requirements on these sufficient to determine compliance with the applicable RACT determinations.

IV. Final Action

EPA is approving the SIP revisions to the Pennsylvania SIP submitted by PADEP to establish and require NOX RACT for four major sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 1, 2001 without further notice unless EPA receives adverse comment by September 14, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for four named sources.

C. Petitions for Judicial Review

Under section 307(b)(1) of the Clean Air Act, petitions for judicial review of this action must be filed in the United States Court of Appeals for the appropriate circuit by October 15, 2001. Filing a petition for reconsideration by the Administrator of this final rule does not affect the finality of this rule for the purposes of judicial review nor does it extend the time within which a petition for judicial review may be filed, and shall not postpone the effectiveness of such rule or action. This action approving the Commonwealth's source-specific RACT requirements to control NOX from four individual steel facilities in the Pittsburgh-Beaver Valley nonattainment area in Pennsylvania may not be challenged later in proceedings to enforce its requirements. (See section 307(b)(2).)

List of Subjects in 40 CFR Part 52

Environmental protection, Air pollution control, Hydrocarbons, Incorporation by reference, Nitrogen dioxide, Ozone, Reporting and recordkeeping requirements.

Dated: August 3, 2001.
Thomas C. Voltaggio,
Deputy Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(163) to read as follows:

§ 52.2020 Identification of plan.

* * * * *

(c) * * *

(163) Revisions to the Pennsylvania Regulations, Chapter 129 pertaining to VOC and NOX RACT, submitted by the Pennsylvania Department of Environmental Protection on April 9, 1999 and July 5, 2001.

(i) Incorporation by reference.

(A) Letter submitted on April 9, 1999 by the Pennsylvania Department of Environmental Protection transmitting source-specific RACT determinations in the form of operating permits.

(B) Operating permits (OP) for the following sources:

(1) Lukens Steel Corporation, Houston Plant; OP 63-000-080, effective date 02/22/99, except for the Permit Term and conditions 13.-16., inclusive.

(2) Allegheny Ludlum Steel Corporation, West Leechburg Plant; OP 65-000-183, effective date 03/23/99, except for the Permit Term.

(3) Allegheny Ludlum Corporation, Jessop Steel Company Washington Plant; OP 63-000-027, effective date 03/26/99, except for the Permit Term and conditions 11.-14., inclusive.

(C) Letter submitted on July 5, 2001 by the Pennsylvania Department of Environmental Protection transmitting source-specific RACT determinations in the form of operating permits.

(D) Koppel Steel Corporation, Koppel Plant's OP 04-000-059, effective date: 3/23/01, except for the Permit Term.

(ii) Additional Materials—Other materials submitted by the Commonwealth of Pennsylvania in support of and pertaining to the RACT determinations for the sources listed in (i) (B) and (D), above.

[FR Doc. 01-20496 Filed 8-14-01; 8:45 am]

BILLING CODE 6560-50-P